AGENCY FOR INTERNATIONAL DEVELOPMENT

Advisory Committee on Voluntary Foreign Aid; Notice of Meeting

Pursuant to the Federal Advisory Committee Act, notice is hereby given of a meeting of the Advisory Committee on Voluntary Foreign Aid (ACVFA).

Date: June 23, 2004 (8:30 a.m. to 1 p.m.).

Location: The Hilton Washington, 1919 Connecticut Avenue, NW., Washington, DC 20009.

This meeting will feature discussion on development and humanitarian assistance lessons learned in post-conflict and reconstruction. A session with Millennium Challenge Corporation CEO Paul Applegarth will also take place. Participants will have an opportunity to ask questions of the speakers and participate in the discussion.

The meeting is free and open to the public. Persons wishing to attend the meeting can register online at http://www.ACVFA.com or e-mail their name to Ashley Mattison at Ashley.Mattison@triumph-tech.com.

Dated: May 13, 2004.
Adele Liskov,
Acting Executive Director, Advisory Committee on Voluntary Foreign Aid (ACVFA).

[FR Doc. 04-11794 Filed 5-24-04; 8:45 am]

BILLING CODE 6116-01-P